FEDERAL COMMUNICATIONS COMMISSION

[DA 05-270]

Media Bureau Implements Mandatory Electronic Filing of FCC Form 321 via COALS

AGENCY: Federal Communications Commission.

ACTION: Notice.

SUMMARY: In this Document the Media Bureau announces mandatory electronic filing via the Cable Operations and Licensing System (COALS) for FCC Form 321, Aeronautical Frequency Notification.

DATES: September 1, 2005.

FOR FURTHER INFORMATION CONTACT: Michael Lance at (202) 418-7000.

SUPPLEMENTARY INFORMATION: The Commission's Public Notice, released February 2, 2005. The complete text of the Public Notice and related Commission documents are available for public inspection and copying during regular business hours at the FCC Reference Information Center, Portals II, 445 12th Street, SW., Room CY-A257, Washington, DC 20554. The Public Notice and related Commission documents may also be purchased from the Commission's duplicating contractor, Best Copy and Printing, Inc. (BCPI), Portals II, 445 12th Street, SW., Room CY-B402, Washington, DC 20554, telephone (202) 488-5300, facsimile (202) 488-5563, or you may contact BCPI at its Web site: http://www.BCPIWEB.com. The Public Notice and related documents are also available on the Internet at the Commission's Web site: http://www.fcc.gov/Daily_Releases/Daily_Business/2005/db0202/DA-05-270A1.pdf.

The Media Bureau announces mandatory electronic filing via the Cable Operations and Licensing System (COALS) for FCC Forms 321, Aeronautical Frequency Notification. Mandatory electronic filing will commence on September 1, 2005. Paper versions of these forms will not be accepted for filing after August 31, 2005. The Commission will consider waivers where filers can show that electronic filing would cause them hardship. Users can access the electronic filing system for these forms via the Internet from the Commission's Web site at http://www.fcc.gov/coals. Instructions for use of the COALS and assistance are available from http://www.fcc.gov/coals. under “download instructions.” Internet access to the COALS public access system requires a user to have a browser such as Netscape version 3.04 or Internet Explorer version 3.51, or later. For technical assistance using the system or to report problems, please contact the Media Bureau, Engineering Division at (202) 418-7000 or COALS_help@fcc.gov.

Federal Communications Commission.
John P. Wong,
Chief, Engineering Division, Media Bureau.

[FR Doc. 05-3431 Filed 2-22-05; 8:45 am]

BILLING CODE 6712-01-P